FEDERAL COMMUNICATIONS COMMISSION

47 CFR Part 73

[DA 06-1368]

Radio Broadcasting Services; Various Locations

AGENCY: Federal Communications Commission.

ACTION: Final rule.

SUMMARY: The Commission, on its own motion, editorially amends the Table of FM Allotments to specify the actual classes of channels allotted to various communities. The changes in channel classifications have been authorized in response to applications filed by licensees and permittees operating on these channels. This action is taken pursuant to Revision of Section 73.3573(a)(1) of the Commission's Rules Concerning the Lower Classification of an FM Allotment, 4 FCC Rcd 2413 (1989), Amendment of the Commission's Rules to permit FM Channel and Class Modifications by Applications, 8 FCC Rcd 4735 (1993) and Streamlining of Radio Technical Rules in Part 73 and 74 of the Commission's Rules, 15 FCC Rcd 21649 (2000).

DATES: Effective July 12, 2006.

FOR FURTHER INFORMATION CONTACT: Rolanda F. Smith, Media Bureau, (202) 418-2180.

SUPPLEMENTARY INFORMATION: This is a summary of the Commission's Report and Order, adopted June 28, 2006, and released June 30, 2006. The full text of this Commission decision is available for inspection and copying during regular business hours at the FCC Reference Information Center, Portals II, 445 12th Street, SW., Room CY-A257, Washington, DC 20554. The complete text of this decision may also be purchased from the Commission's duplicating contractor, Best Copy and Printing, Inc., 445 12th Street, SW., Room CY-B402, Washington, DC 20554, telephone 1-800-378-3160 or http://www.BCPIWEB.com. The Commission will not send a copy of the Report & Order in this proceeding pursuant to the Congressional Review Act, see 5 U.S.C. 801(a)(1)(A), because the adopted rules are rules of particular applicability.

List of Subjects in 47 CFR Part 73

Radio, Radio broadcasting.

As stated in the preamble, the Federal Communications Commission amends 47 CFR part 73 as follows:

PART 73—RADIO BROADCASTING SERVICES

1. The authority citation for part 73 continues to read as follows:

Authority: 47 U.S.C. 154, 303, 334, 336.

§ 73.202 [Amended]

2. Section 73.202(b), the Table of FM Allotments under Alaska, is amended by removing Channel 228A and adding Channel 228C1 at Delta Junction.

3. Section 73.202(b), the Table of FM Allotments under Arizona, is amended by removing Channel 222A and adding Channel 222C1 at Tusayan.

4. Section 73.202(b), the Table of FM Allotments under California, is amended by removing Channel 261C3 and adding Channel 261C2 at Dunsmuir.

5. Section 73.202(b), the Table of FM Allotments under Georgia, is amended by removing Channel 262C and adding Channel 262C0 at Tifton.

6. Section 73.202(b), the Table of FM Allotments under Kansas, is amended by removing Channel 231C and adding Channel 231C0 at Kansas City.

7. Section 73.202(b), the Table of FM Allotments under Missouri, is amended by removing Channel 271C3 and adding Channel 271A at Louisiana.

8. Section 73.202(b), the Table of FM Allotments under Montana, is amended by removing Channel 298A and adding Channel 298C1 at Superior and removing Channel 224A and adding Channel 224C2 at Wolf Point.

9. Section 73.202(b), the Table of FM Allotments under Nebraska, is amended by removing Channel 265A and adding Channel 265C3 at Allen.

10. Section 73.202(b), the Table of FM Allotments under Nevada, is amended by removing Channel 233C1 and adding Channel 233C at Caliente and removing Channel 295C1 and adding Channel 295C at Overton.

11. Section 73.202(b), the Table of FM Allotments under New Mexico, is amended by removing Channel 245C and adding Channel 245C0 at Farmington and removing Channel 279C3 and adding Channel 279C1 at Lordsburg.

12. Section 73.202(b), the Table of FM Allotments under New York, is amended by removing Channel 240A and adding Channel 238A at Dundee.

13. Section 73.202(b), the Table of FM Allotments under Oklahoma, is amended by removing Channel 240A and adding Channel 240C3 at Frederick.

14. Section 73.202(b), the Table of FM Allotments under South Carolina, is amended by removing Channel 287C and adding Channel 287C0 at Gaffney.

15. Section 73.202(b), the Table of FM Allotments under Tennessee, is amended by removing Channel 289A and adding Channel 289C3 at Rockwood.

16. Section 73.202(b), the Table of FM Allotments under Washington, is amended by removing Channel 231C and adding Channel 231C0 at Clarkston and removing Channel 293C and adding Channel 293C0 at Richland.

Federal Communications Commission.
John A. Karousos,
Assistant Chief, Audio Division, Media Bureau.

[FR Doc. E6-10935 Filed 7-11-06; 8:45 am]

BILLING CODE 6712-01-P